DEPARTMENT OF ENERGY

Office of Arms Control and Nonproliferation

Proposed Subsequent Arrangement

AGENCY: Department of Energy.

ACTION: Subsequent Arrangement.

SUMMARY: This notice is being issued under the authority of section 131 of the Atomic Energy Act of 1954, as amended (42 U.S.C. 2160). The Department is providing notice of a proposed “subsequent arrangement” under Article 10 paragraph 3 of the Agreement for Cooperation Between the Government of the United States of America and the Government of the Republic of Korea Concerning Civil Uses of Atomic Energy and the Agreement for Cooperation Between the Government of the United States of America and the Argentine Republic Concerning Peaceful Uses of Nuclear Energy.

This subsequent arrangement concerns the retransfer of 9.3 kilograms of atomized depleted uranium-molybdenum powder, 0.22 percent enrichment, from the Korea Atomic Energy Research Institute (KAERI) to the Comision Nacionel de Energia (CNEA). The material, which is located at and was prepared by KAERI, will be used for the formability test of plate-type nuclear fuel as part of a Reduced Enrichment for Research and Test Reactors (RERTR) program. The material originally was transferred to KAERI by Comet Industrial Corp. pursuant to Export License Number XSOU8765.

In accordance with section 131 of the Atomic Energy Act of 1954, as amended, we have determined that this subsequent arrangement will not be inimical to the common defense and security.

This subsequent arrangement will take effect no sooner than fifteen days after the publication of this notice.

Dated: July 23, 2001.
For the Department of Energy.
Trisha Dedik,
Director, Office of Nonproliferation Policy for Nonproliferation and International Security, Office of Defense Nuclear Nonproliferation.

[FR Doc. 01-18771 Filed 7-26-01; 8:45 am]

BILLING CODE 6450-01-P